DEPARTMENT OF AGRICULTURE

Food and Nutrition Service

Agency Information Collection Activities: Proposed Collection; Comment Request: Afterschool Snacks Information in the Child and Adult Care Food Program

AGENCY: Food and Nutrition Service, USDA.

ACTION: Notice.

SUMMARY: In accordance with the Paperwork Reduction Act of 1995, this notice invites the general public and other public agencies to comment on proposed information collections.

DATES: Written comments on this notice must be received or postmarked by November 13, 2006.

ADDRESSES: Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on those who are to respond, including use of appropriate automated, electronic, mechanical, or other technological collection techniques or other forms of information technology.

Comments may be sent to Melissa Rothstein, Chief, Program Analysis and Monitoring Branch, Child and Nutrition Division, Food and Nutrition Service, USDA, 3101 Park Center Drive, Room 640, Alexandria, Virginia 22302-1594. Comments may also be submitted via fax to the attention of Melissa Rothstein at (703) 305-2879 or via e-mail to melissa.rothstein@fns.usda.gov.

All responses to this notice will be summarized and included in the request for OMB approval. All comments will be a matter of public record.

FOR FURTHER INFORMATION CONTACT: Requests for additional information or copies of this information collection should be directed to Melissa Rothstein at the address above or by telephone at 703-305-2590.

SUPPLEMENTARY INFORMATION: Title: 7 CFR Part 226, Child and Adult Care Food Program.

OMB Numbers: 0584-0055.

Expiration Date: 3/31/2009.

Type of Request: Revision of currently approved information collection.

Abstract: FNS is amending the regulations for the Child and Adult Care Food Program (CACFP) at 7 CFR Part 226 to incorporate the provisions of the William F. Goodling Child Nutrition Reauthorization Act of 1998, which authorized certain afterschool care centers to be reimbursed for snacks served to at-risk children 18 years of age and younger. The rule is also being amended to establish the eligibility of at-risk afterschool care centers to serve free snacks to children who participate in afterschool programs. These changes were originally proposed by the Department in a rulemaking published on October 11, 2000 (65 FR 60502).

Due to the drop-in nature of many afterschool programs, the Department did not propose extensive reporting and recordkeeping requirements. In addition to application and eligibility records, an at-risk center must document daily attendance, number of snacks prepared or delivered, number of snacks served, and menus for each snack service. Consistent with the objective of keeping program administration minimal, the Department proposed only one additional reporting requirement—that at-risk centers report the total number of snacks served to eligible children. The proposed recordkeeping and reporting provisions are maintained in the final rule.

Affected Public: State, local or tribal Government, Individuals or Households, Business or other for-profit institutions, Not-for-profit institutions, and Federal government.

Estimated Annualized Burden—7 CFR Part 226, OMB No. 0584-0055
| Section | Annual number of respondents | Number responses per respondent | Hours per response | Total burden
State agency collects and maintains CACFP agreements, records received from applicant and participating institutions and documentation of administrative review and Program assistance activities, results and corrective actions.
Total existing State agencies | 7 CFR 226.6 | 54 | 1 | 1.9 | 103
Total proposed State agencies | 7 CFR 226.6 | 54 | 1 | 2.4 | 130
Independent centers and sponsoring organizations of centers must ensure that family size and income, menus, meal counts, enrollment, invoices and receipts, claims for reimbursement, day care licenses, CACFP applications, tax exempt certification (if applicable) are maintained on file for a period of at least 3 years. Sponsoring organizations of day care homes must ensure that menus, meal counts, attendance, enrollment, day care license, CACFP application and provider's family size and income records are maintained on file for a period of 3 years.
Total existing Institutions | 7 CFR 226.15 | 17,957 | 1 | 6.078 | 109,143
Total proposed Institutions | 7 CFR 226.15 | 21,224 | 1 | 6.578 | 139,611
Institutions submit documentation sufficient to determine that each at-risk afterschool care center meets program eligibility or area eligibility requirements.
Total existing institutions | 7 CFR 226.6(b) | 0 | 0 | 0 | 0
Total proposed institutions | 7 CFR 226.6(b) | 1,535 | 1 | .3 | 461
Sponsoring organization or independent institution submits documentation to demonstrate that child care centers, outside school-hours care centers, at-risk afterschool care centers, day care homes, and adult day care centers are in compliance with licensing/approval criteria.
Total existing sponsors/institutions | 7 CFR 226.6(d) | 12,742 | 1 | .3 | 3,823
Total proposed sponsors/institutions | 7 CFR 226.6(d) | 21,224 | 1 | .5 | 10,612
Total New Burden |  |  |  |  | 37,745
Currently Approved Burden |  |  |  |  | 5,779,223
Total Burden Hours Requested under #0584-0055 |  |  |  |  | 5,816,968

Estimated Number of Respondents: 2,933,376.

Estimated Average Number of Responses per Respondent: 2.25.

Estimated Annual Responses: 6,624,039.

Estimated Average Hours Per Response: .87.

Estimated Total Annual Burden: 5,816,968.

Dated: September 5, 2006.
George A. Braley,
Acting Administrator, Food and Nutrition Service.

[FR Doc. 06-7647 Filed 9-12-06; 8:45 am]

BILLING CODE 3410-30-P